DEPARTMENT OF LABOR

Employment and Training Administration

[TA-W-91,233]

Thermo Fisher Scientific, LLC, Including Workers Whose Unemployment Insurance (UI) Wages, Are Reported Under Thermo Finnigan LLC, and Including On-Site Leased Workers From ATR, ADECCO, AEROTEK and Kelly Services, Austin, Texas; Amended Certification Regarding Eligibility To Apply for Worker Adjustment Assistance

In accordance with Section 223 of the Trade Act of 1974, as amended (“Act”), 19 U.S.C. 2273, the Department of Labor issued a Certification of Eligibility to Apply for Worker Adjustment Assistance on January 31, 2016, applicable to workers and former workers of Thermo Fisher Scientific, including on-site leased workers from ATR, Adecco, Aerotek, and Kelly Services, Austin, Texas. The workers are engaged in activities related to the production of gas chromatography and mass spectrometry analyzers.

At the request of the State Workforce Office, the Department reviewed the certification for workers of the subject firm.

The Department has confirmed that some workers separated from employment at Thermo Fisher Scientific, Austin, Texas had wages reported under an unemployment insurance (UI) account under the name Thermo Finnigan LLC.

The intent of the Department's certification is to include all workers of the subject firm who were adversely affected by a shift to a foreign country in production of gas chromatography and mass spectrometry analyzers, or like or directly competitive articles which contributed importantly to worker group separations at Thermo Fisher Scientific, Austin, Texas. Accordingly, the Department is amending this certification to properly reflect this matter. The amended notice applicable to TA-W-91,233 is hereby issued as follows:

All workers of Thermo Fisher Scientific, LLC, including workers whose unemployment insurance (UI) wages are reported under Thermo Finnigan LLC and including on-site leased workers from ATR, Adecco, Aerotek, and Kelly Services, Austin, Texas, who became totally or partially separated from employment on or after December 15, 2014, through January 31, 2018, and all workers in the group threatened with total or partial separation from employment on January 31, 2016 through January 31, 2018, are eligible to apply for adjustment assistance under Chapter 2 of Title II of the Trade Act of 1974, as amended.

Signed in Washington, DC, this 11th day of November 2016.
Del Min Amy Chen,
Certifying Officer, Office of Trade Adjustment Assistance.

[FR Doc. 2016-32009 Filed 1-4-17; 8:45 am]

BILLING CODE 4510-FN-P